DEPARTMENT OF AGRICULTURE

Forest Service

Eastern Region Recreation Resource Advisory Committee

AGENCY: Forest Service, USDA.

ACTION: Notice of meeting.

SUMMARY: The Eastern Region Recreation Resource Advisory Committee (Recreation RAC) will meet in Louisville, Kentucky. The Recreation RAC is authorized pursuant with the Federal Lands Recreation Enhancement Act (the Act) and the Federal Advisory Committee Act (FACA). Additional information concerning the Recreation RAC may be found by visiting the Recreation RAC's Web site at: http://www.fs.usda.gov/main/r9/recreation/racs.

DATES: The meeting will be held on:

• Thursday, April 20, 2017, from 8:15 a.m. to 5:00 p.m.

• Friday, April 21, 2017, from 9:00 a.m. to 4:30 p.m.

All Recreation RAC meetings are subject to cancellation. For status of the meetings prior to attendance, please contact the person listed under the For Further Information Contact.

ADDRESSES: The meeting will be held on Thurday, April 20, 2017 on a field trip to the Hoosier National Forest and Friday, April 21, 2017 at the Holiday Inn Express & Suites Louisville Downtown, 800 West Market Street, Louisville, Kentucky. The meeting will also be available via teleconference. For anyone who would like to attend via teleconference, please visit the Web site listed in the Summary section or contact the person listed under the For Further Information Contact section.

Written comments may be submitted as described under Supplementary Information. All comments, including names and addresses, when provided, are placed in the record and available for public inspection and copying. The public may inspect comments received at the Eastern Region Regional Office located at 626 East Wisconsin Avenue, Milwaukee, Wisconsin. Please call ahead at 541-860-8048 to facilitate entry into the building.

FOR FURTHER INFORMATION CONTACT: Joanna Wilson, Eastern Region Recreation RAC Coordinator by phone at 541-860-8048, or by email at jwilson08@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Attend a field visit to the Hoosier National Forest to see some fee proposal sites including the Saddle Lake Recreation Area and German Ridge Campground.

2. Review the following fee proposals:

a. Monongahela National Forest fee proposals which include the Lake Sherwood Recreation Area;

b. Hoosier National Forest fee proposals at Saddle Lake Recreation Area and German Ridge Campground;

c. Ottawa National Forest fee proposals Camp Nesbit Organizational Camp, seasonal personal watercraft docking at Black River Harbor, Lake Ottawa Pavilion, Clark Lake Day-Use Buildings, Sylvania Backcountry Campsites, and a day-use pass that covers Black River Harbor Recreation, Lake Ottawa Recreation Area, and the Sylvania Recreation Area; and the

d. White Mountain National Forest fee proposals include the elimination of fees at nine trailheads including, 19—Mile Brook Trailhead, East Pond Trailhead, Greeley Pond Trailhead, Hale Brook Trailhead, Hancock Notch Trailhead, Sugarloaf Trailhead, Downes Brook Trailhead, Oliverian Brook Trailhead and Sawyer Pond Trailhead; increase the cost of a daily recreation pass to $5, an annual pass to $30, and eliminating the weekly and household passes; adding Zealand Picnic Area to the Forest Fee Program; increasing the fees Dolly Copp Pavilion; Russell Colbath Barn; Crocker Pond Campground; 4th Iron Campsites; Black Mountain Cabin; Doublehead Cabin; and Radeke Cabin.

The meeting is open to the public. The agenda will include time for people to make oral statements of three minutes or less at the Friday portion of the meeting starting at 3:00 p.m. Individuals wishing to make an oral statement should request in writing by April 15, 2017, to be scheduled on the agenda. Anyone who would like to bring related matters to the attention of the Recreation RAC may file written statements with the Committee's staff before or after the meeting. Written comments and time requests for time to make oral comments must be sent to Joanna Wilson, Eastern Region Recreation RAC Coordinator, 855 South Skylake Drive, Woodland Hills, Utah 84653; or by email to jwilson08@fs.fed.us.

Meeting Accommodations: If you require reasonable accommodation, please make requests in advance for sign language interpreting, assistive listening devices, or other reasonable accommodation. For access to the facility or proceedings, please contact the person listed in the section titled For Further Information Contact. All reasonable accommodation requests are managed on a case by case basis.

Dated: March 9, 2017.
Jeannie M. Higgins,
Acting Associate Deputy Chief, National Forest System.

[FR Doc. 2017-06140 Filed 3-28-17; 8:45 am]

BILLING CODE 3411-15-P